DEPARTMENT OF COMMERCE

International Trade Administration

[C-122-858]

Certain Softwood Lumber Products From Canada: Notice of Amended Final Results of Countervailing Duty Administrative Review; 2020

AGENCY: Enforcement and Compliance, International Trade Administration, Department of Commerce.

SUMMARY: The U.S. Department of Commerce (Commerce) is amending its notice of final results for the 2020 administrative review of the countervailing duty (CVD) order on certain softwood lumber products (softwood lumber) from Canada.

DATES: Applicable October 11, 2022.

FOR FURTHER INFORMATION CONTACT: John Hoffner, AD/CVD Operations, Office III, Enforcement and Compliance, International Trade Administration, U.S. Department of Commerce, 1401 Constitution Avenue NW, Washington, DC 20230; telephone: (202) 482-3315.

SUPPLEMENTARY INFORMATION:

Background

On March 4, 2021, Commerce published its Initiation Notice for the administrative review of the CVD order on softwood lumber from Canada covering the period January 1, 2020, through December 31, 2020.¹ In the Initiation Notice, Commerce inadvertently omitted the following companies, for which we had received timely requests for an administrative review: Coast Clear Wood Ltd.; Coulson Manufacturing Ltd.; Halo Sawmill, a division of Delta Cedar Specialties Ltd.; Mainland Sawmill, a division of Terminal Forest Products Ltd.; and Pine Ideas Ltd.² Additionally, in the Final Results Notice of the CVD administrative review covering the 2020 period of review, Commerce omitted those same companies from Appendix II as being among the firms subject to the review that received the subsidy rate applicable to companies not selected for individual examination.³ With the issuance of this amended notice, we confirm that Coast Clear Wood Ltd., Coulson Manufacturing Ltd., Halo Sawmill, a division of Delta Cedar Specialties Ltd., Mainland Sawmill, a division of Terminal Forest Products Ltd., and Pine Ideas Ltd. are included among the firms subject to the CVD administrative review covering the 2020 period of review and are among the non-selected companies subject to a subsidy rate of 3.38 percent, effective August 9, 2022.⁴

¹ See Initiation of Antidumping and Countervailing Duty Administrative Reviews, 86 FR 12599 (March 4, 2021) (Initiation Notice).

² Id., 86 FR at 12609; see also Patrick Lumber Company's Letter, “Certain Softwood Lumber Products from Canada (C-122-858) Patrick Lumber Company Request for Administrative Review (1/1/2020-12/31/2020),” dated January 29, 2021; and Pine Ideas Ltd.'s Letter, “Request for Administrative Review,” dated January 19, 2021.

³ See Certain Softwood Lumber Products from Canada: Final Results and Final Rescission, in Part, of the Countervailing Duty Administrative Review, 2020, 87 FR 48455, 48458-59 (August 9, 2022) (Final Results Notice).

⁴ Id., 87 FR at 48456.

Assessment Rates

Pursuant to section 751(a)(2)(C) of the Act and 19 CFR 351.212(b)(2), Commerce will determine, and U.S. Customs and Border Protection (CBP) shall assess, CVDs on all appropriate entries of subject merchandise covered by this review. However, currently we have instructed CBP to suspend all entries subject to this review, pursuant to suspension of liquidation requests filed in accordance with 19 CFR 356.8 and 19 U.S.C. 516A(g)(5)(C). Consistent with the requests concerning these five companies, we also intend to issue suspension instructions for these companies consistent with those requests and in accordance with 19 CFR 356.8 and 19 U.S.C. 516A(g)(5)(C).

Cash Deposit Requirements

In accordance with section 751(a)(2)(C) of the Act, Commerce intends to instruct CBP to collect cash deposits of estimated CVDs in the amounts shown for the companies subject to this review, effective August 9, 2022, the date of publication of the Final Results Notice in the Federal Register. Therefore, Commerce will instruct CBP to collect cash deposits for Coast Clear Wood Ltd., Coulson Manufacturing Ltd., Halo Sawmill, a division of Delta Cedar Specialties Ltd., Mainland Sawmill, a division of Terminal Forest Products Ltd., and Pine Ideas Ltd. as included among the firms subject to the CVD administrative review covering the 2020 period of review and as among the non-selected companies subject to a subsidy rate of 3.38 percent. These cash deposits, when imposed, shall remain in effect until further notice.

Notification to Interested Parties

This notice is issued and published in accordance with sections 751(a)(1) and 777(i) of the Tariff Act of 1930, as amended.

Dated: October 4, 2022.
Ryan Majerus,
Deputy Assistant Secretary for Policy and Negotiations.

[FR Doc. 2022-22001 Filed 10-7-22; 8:45 am]

BILLING CODE 3510-DS-P